DEPARTMENT OF COMMERCE

International Trade Administration

[A-570-964]

Seamless Refined Copper Pipe and Tube From the People's Republic of China: Final Results of Antidumping Duty Administrative Review; 2011-2012

AGENCY: Enforcement and Compliance, International Trade Administration, Department of Commerce.

SUMMARY: On November 21, 2013, the Department of Commerce (“the Department”) published its Preliminary Results of the 2011-2012 administrative review of the antidumping duty order on seamless refined copper pipe and tube (“copper pipe”) from the People's Republic of China (“PRC”).¹ The period of review (“POR”) is November 1, 2011 through October 31, 2012. We invited parties to comment on our Preliminary Results. Based on our analysis of the comments received, we made certain changes to our margin calculations for the mandatory respondent Golden Dragon Precise Copper Tube Group, Inc., Hong Kong GD Trading Co., Ltd., and Golden Dragon Holding (Hong Kong) International, Ltd. (collectively, “Golden Dragon”). The final weighted-average dumping margins for this review are listed in the “Final Results” section below.

¹ See Seamless Refined Copper Pipe and Tube From the People's Republic of China: Preliminary Results and Partial Rescission of Administrative Review; 2011-2012, 78 FR 69820 (November 21, 2013) (“Preliminary Results”).

DATES: Effective Date: April 28, 2014.

FOR FURTHER INFORMATION CONTACT: Thomas Martin, AD/CVD Operations, Office IV, Enforcement and Compliance, International Trade Administration, U.S. Department of Commerce, 14th Street and Constitution Avenue NW., Washington, DC 20230; telephone: (202) 482-3936.

Background

On November 21, 2013, the Department published its Preliminary Results. On December 30, 2013, Cerro Flow Products, LLC, Wieland Copper Products, LLC, Mueller Copper Tube Products Inc., and Mueller Copper Tube Company, Inc. (collectively, “Petitioners”), Golden Dragon, and Hong Kong Hailiang Metal Trading Limited, Zhejiang Hailiang Co., Ltd., and Shanghai Hailiang Copper Co., Ltd. (collectively, “Hailiang”) each submitted a case brief.² On January 6, 2014, Petitioners and Golden Dragon each submitted a rebuttal case brief.³ On March 6, 2014, the Department extended the deadline for the final results in this administrative review until April 8, 2014.⁴ On April 3, 2014, the Department further extended this deadline until April 22, 2014.⁵

² See Letter from Petitioners, “In the Matter of: 2011-12 Administrative Review Of The Antidumping Duty Order On Seamless Refined Copper Pipe And Tube From The People's Republic Of China: Petitioners' Case Brief,” dated December 30, 2013; Letter from Hailiang, “Re: Hailiang Case Brief: Second Administrative Review of the Antidumping Duty Order on Seamless Refined Copper Pipe and Tube (“Copper Pipe”) from the People's Republic of China (“PRC”),” dated December 30, 2013; Letter from Golden Dragon, “Re: Golden Dragon's Case Brief,” dated December 30, 2013.

³ See Letter from Petitioners, “In the Matter of: 2011-12 Administrative Review Of The Antidumping Duty Order On Seamless Refined Copper Pipe And Tube From The People's Republic Of China: Petitioners' Rebuttal Brief,” dated January 6, 2014 (resubmitted at the request of the Department on February 28, 2014); Letter from Golden Dragon, “Re: Golden Dragon's Rebuttal Brief,” dated January 6, 2014.

⁴ See Memorandum to Christian Marsh, Deputy Assistant Secretary for Antidumping and Countervailing Duty Operations, “Seamless Refined Copper Pipe and Tube from the People's Republic of China: Extension of Deadline for Final Results of Antidumping Duty Administrative Review,” (March 6, 2014).

⁵ See Memorandum to Christian Marsh, Deputy Assistant Secretary for Antidumping and Countervailing Duty Operations, “Seamless Refined Copper Pipe and Tube from the People's Republic of China: Extension of Deadline for Final Results of the Second Antidumping Duty Administrative Review,” (April 3, 2014).

Scope of the Order

The merchandise subject to the order is seamless refined copper pipe and tube. The product is currently classified under Harmonized Tariff Schedule of the United States (“HTSUS”) item numbers 7411.10.1030 and 7411.10.1090. Products subject to this order may also enter under HTSUS item numbers 7407.10.1500, 7419.99.5050, 8415.90.8065, and 8415.90.8085. Although the HTSUS numbers are provided for convenience and customs purposes, the written description of the scope of this order remains dispositive.⁶

⁶ For a complete description of the scope of this order, see Seamless Refined Copper Pipe and Tube From Mexico and the People's Republic of China: Antidumping Duty Orders and Amended Final Determination of Sales at Less Than Fair Value From Mexico, 75 FR 71070 (November 22, 2010).

Withdrawals of Administrative Review Requests

Administrative reviews were also requested for Shanghai Hailiang Metal Trading Limited and Hong Kong Hailiang Metal, companies named in the Initiation Notice,⁷ and those requests were timely withdrawn pursuant to 19 CFR 351.213(d)(1). However, we are not rescinding the reviews for these two companies because they do not have a separate rate and, therefore, each remains part of the PRC-wide entity, which is subject to this administrative review.

⁷ See Initiation of Antidumping and Countervailing Duty Administrative Reviews and Request for Revocation in Part, 77 FR 77017 (December 31, 2012). These companies are not included in the collapsed entity of Hong Kong Hailiang Metal Trading Limited, Zhejiang Hailiang Co., Ltd., and Shanghai Hailiang Copper Co., Ltd.

Analysis of Comments Received

All issues raised in the case and rebuttal briefs filed by parties in this review are addressed in the Memorandum from James Maeder, Director, Office II, Antidumping and Countervailing Duty Operations, to Paul Piquado, Assistant Secretary for Enforcement and Compliance, “Decision Memorandum for the Final Results of Antidumping Duty Administrative Review: Seamless Refined Copper Pipe and Tube from the People's Republic of China; 2011-2012,” issued concurrently with, and hereby adopted by, this notice (“Issues and Decision Memorandum”). A list of the issues that parties raised and to which we responded in the Issues and Decision Memorandum follows as an appendix to this notice. The Issues and Decision Memorandum is a public document and is on file electronically via Enforcement and Compliance's Antidumping and Countervailing Duty Centralized Electronic Service System (IA ACCESS). IA ACCESS is available to registered users at http://iaaccess.trade.gov, and is available to all parties in the Central Records Unit, room 7046 of the main Department of Commerce building. In addition, a complete version of the Issues and Decision Memorandum can be accessed directly at http://enforcement.trade.gov/frn/. The paper copy and electronic version of the Issues and Decision Memorandum are identical in content.

Changes Since the Preliminary Results

Based on a review of the record and comments received from interested parties regarding our Preliminary Results, we made revisions to the margin calculations for Golden Dragon.⁸ Specifically, we revised the appropriate comparison method to calculate Golden Dragon weighted-average dumping margin due to an adjustment in our differential pricing analysis.

⁸ See Issues and Decision Memorandum issued concurrently with these final results.

Final Results

We determine that the following weighted-average dumping margins exist for the POR:

⁹ The PRC-Wide Entity includes, inter alia, Shanghai Hailiang Metal Trading Limited, Hong Kong Hailiang Metal, China Hailiang Metal Trading, Foshan Hua Hong Copper Tube Co., Ltd., Guilin Lijia Metals Co., Ltd., Sinochem Ningbo Import & Export Co., Ltd., Sinochem Ningbo Ltd., Taicang City Jinxin Copper Tube Co., Ltd., Ningbo Jintian Copper Tube Co., Ltd., Zhejiang Jiahe Pipes Inc., and Zhejiang Naile Copper Co., Ltd.

Exporter | Weighted-average dumping margin (percent)
Golden Dragon Precise Copper Tube Group, Inc., Hong Kong GD Trading Co., Ltd., and Golden Dragon Holding (Hong Kong) International, Ltd. | 4.50
Hong Kong Hailiang Metal Trading Limited, Zhejiang Hailiang Co., Ltd., and Shanghai Hailiang Copper Co., Ltd | 4.50
PRC-Wide Entity ⁹ | 60.85

Assessment Rates

Pursuant to section 751(a)(2)(A) of the Tariff Act of 1930, as amended (“the Act”), and 19 CFR 351.212(b), the Department will determine, and U.S. Customs and Border Protection (“CBP”) shall assess, antidumping duties on all appropriate entries covered by this review. The Department intends to issue assessment instructions to CBP 15 days after the publication date of the final results of this review.

For Golden Dragon, the Department calculated importer-specific assessment rates based on the ratio of the total amount of dumping calculated for the importer's examined sales and the total entered value of those sales. We will instruct CBP to assess antidumping duties on all appropriate entries covered by this review when the importer-specific assessment rate is not zero or de minimis (i.e., less than 0.5 percent). Where an importer-specific assessment rate is zero or de minimis, we will instruct CBP to liquidate the appropriate entries without regard to antidumping duties.

For Hailiang, the Department will instruct CBP to liquidate all appropriate entries at an ad valorem rate equal to Hailiang's weighted-average dumping margin in the final results of this administrative review.

The Department announced a refinement to its assessment practice in non-market economy (“NME”) cases. Pursuant to this refinement in practice, for entries that were not reported in the U.S. sales databases submitted by companies individually examined during this review, the Department will instruct CBP to liquidate such entries at the rate for the NME-wide entity. In addition, if the Department determines that an exporter under review had no shipments of the subject merchandise, any suspended entries that entered under that exporter's case number (i.e., at that exporter's rate) will be liquidated at the rate for the NME-wide entity.¹⁰

¹⁰ For a full discussion of this practice, see Non-Market Economy Antidumping Proceedings: Assessment of Antidumping Duties, 76 FR 65694 (October 24, 2011).

Cash Deposit Requirements

The following cash deposit requirements will be effective upon publication of the final results of this administrative review for shipments of the subject merchandise from the PRC entered, or withdrawn from warehouse, for consumption on or after the publication date, as provided by section 751(a)(2)(C) of the Tariff Act of 1930, as amended (“the Act”): (1) For the exporters identified above, the cash deposit rate will be equal to their weighted-average dumping margin in these final results of review; (2) for previously investigated or reviewed PRC and non-PRC exporters that received a separate rate in a previously completed segment of this proceeding, the cash deposit rate will continue to be the existing exporter-specific rate; (3) for all PRC exporters of subject merchandise that have not been found to be entitled a separate rate, the cash deposit rate will be that for the PRC-wide entity (i.e., 60.85 percent); and (4) for all non-PRC exporters of subject merchandise which have not received their own rate, the cash deposit rate will be the rate applicable to the PRC exporter that supplied that non-PRC exporter. These deposit requirements, when imposed, shall remain in effect until further notice.

Disclosure

We will disclose the calculations performed regarding these final results within five days of the date of publication of this notice in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Notifications to All Parties

This notice also serves as a reminder to parties subject to Administrative Protective Order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: April 21, 2014.
Paul Piquado,
Assistant Secretary for Enforcement and Compliance.

Appendix—Issues and Decision Memorandum

Summary

Background

Scope of the Order

Determination of the Comparison Method

Discussion of the Issues

Comment 1: Hailiang Cash Deposit and Liquidation Instructions

Comment 2: Golden Dragon's By-Product Offset

Comment 3: Surrogate Values for Ocean Freight

Comment 4: Consideration of an Alternative Comparison Method in Administrative Reviews

Comment 5: Differential Pricing Analysis: A Pattern of Prices That Differ Significantly Based on Period of Time

Comment 6: Differential Pricing Analysis: Alternative Definition of Time Periods for the Cohen's d Test

Comment 7: Surrogate Country Selection

Comment 8: Financial Ratios

Comment 9: Surrogate Value for Labor

Recommendation

[FR Doc. 2014-09608 Filed 4-25-14; 8:45 am]

BILLING CODE 3510-DS-P